DEPARTMENT OF STATE

[Public Notice 5825]

Title: Correction Request to Public Notice 5807

ACTION: Cancellation of Advisory Committee on Democracy Promotion July 18, 2007 meeting.

SUMMARY: On June 8, 2007, Notice was published in the Federal Register (volume 72, number 110, 31872-31873) announcing a meeting of the Advisory Committee on Democracy Promotion on July 18, 2007 at the Department of State. Due to scheduling conflicts, the meeting has now been cancelled.

FOR FURTHER INFORMATION CONTACT: For more information, contact Paul Lettow, Senior Advisor to the Under Secretary for Democracy and Global Affairs, Department of State, Washington, DC 20520, telephone: (202) 647-1189.

Dated: June 8, 2007.
Barry F. Lowenkron,
Assistant Secretary of the Bureau of Democracy, Human Rights, and Labor, Department of State.

[FR Doc. E7-11594 Filed 6-14-07; 8:45 am]

BILLING CODE 4710-18-P